DEPARTMENT OF COMMERCE

Foreign-Trade Zones Board

T-2-2006

Foreign-Trade Zone 52 - Suffolk County, New York, Temporary/Interim Manufacturing Authority, TKD Industries, Inc., (Cosmetic Kitting), Notice of Approval

On June 20, 2006, the Acting Executive Secretary of the Foreign-Trade Zones Board filed an application submitted by the Town of Islip (New York), operator of Foreign-Trade Zone (FTZ) 52, requesting temporary/interim manufacturing (T/IM) authority within FTZ 52, at the facility of TKD Industries, Inc., located in Ronkonkoma, New York.

The application was processed in accordance with T/IM procedures, as authorized by FTZ Board Order 1347, including notice in the Federal Register inviting public comment (71 FR 36517, 6/27/06). The FTZ staff examiner reviewed the application and determined that it meets the criteria for approval under T/IM procedures. Pursuant to the authority delegated to the FTZ Board Executive Secretary in Board Order 1347, the application was approved, effective July 31, 2006, until July 31, 2008, subject to the FTZ Act and the Board's regulations, including Section 400.28.

Dated: August 10, 2006.
Andrew McGilvray,
Acting Executive Secretary.

[FR Doc. E6-13872 Filed 8-21-06; 8:45 am]

BILLING CODE 3510-DS-S